DEPARTMENT OF HOMELAND SECURITY

Federal Emergency Management Agency

44 CFR Part 65

[Docket ID FEMA-2012-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below of the modified BFEs for each community listed. These modified BFEs have been published in newspapers of local circulation and ninety (90) days have elapsed since that publication. The Deputy Associate Administrator for Mitigation has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama:
Baldwin (FEMA Docket No.: B-1235) | City of Gulf Shores (11-04-5389P) | October 7, 2011; October 14, 2011; The Islander | The Honorable Robert S. Craft, Mayor, City of Gulf Shores, 1905 West 1st Street, Gulf Shores, AL 36547 | September 29, 2011 | 015005
Baldwin (FEMA Docket No.: B-1235) | City of Gulf Shores (11-04-6730P) | October 11, 2011; October 18, 2011; The Islander | The Honorable Robert S. Craft,Mayor, City of Gulf Shores, 1905 West 1st Street, Gulf Shores, AL 36547 | October 4, 2011 | 015005
Madison (FEMA Docket No.: B-1235) | City of Huntsville (11-04-3252P) | September 8, 2011; September 15, 2011; The Huntsville Times | The Honorable Tommy Battle, Mayor, City of Huntsville, 308 Fountain Circle, 8th Floor, Huntsville, AL 35801 | January 13, 2012 | 010153
Tuscaloosa (FEMA Docket No.: B-1231) | Town of Coaling (11-04-2431P) | September 8, 2011; September 15, 2011; The Tuscaloosa News | The Honorable Charles Foster, Mayor, Town of Coaling, 11281 Stephens Loop, Coaling, AL 35453 | January 13, 2012 | 010480
Tuscaloosa (FEMA Docket No.: B-1231) | Unincorporated areas of Tuscaloosa County (11-04-2431P) | September 8, 2011; September 15, 2011; The Tuscaloosa News | The Honorable W. Hardy McCollum, Probate Judge, Tuscaloosa County Commission, 714 Greensboro Avenue, Tuscaloosa, AL 35401 | January 13, 2012 | 010201
Arizona:
Pima (FEMA Docket No.: B-1231) | Unincorporated areas of Pima County (11-09-0275P) | September 20, 2011; September 27, 2011; The Daily Territorial | The Honorable Ramon Valadez, Chairman, Pima County Board of Supervisors, 130 West Congress Street, 11th Floor, Tucson, AZ 85701 | January 25, 2012 | 040073
Arkansas:
Benton (FEMA Docket No.: B-1228) | City of Bentonville (11-06-1914P) | August 30, 2011; September 6, 2011; The Benton County Daily Record | The Honorable Bob McCaslin, Mayor, City of Bentonville, 117 West Central Avenue, Bentonville, AR 72712 | January 4, 2012 | 050012
Benton (FEMA Docket No.: B-1228) | Unincorporated areas of Benton County (11-06-1914P) | August 30, 2011; September 6, 2011; The Benton County Daily Record | The Honorable Robert Clinard, Benton County Judge, 215 East Central Avenue, Bentonville, AR 72712 | January 4, 2012 | 050419
California:
Yuba (FEMA Docket No.: B-1225) | Unincorporated areas of Yuba County (11-09-0045P) | August 25, 2011; September 1, 2011; The Appeal-Democrat | The Honorable Roger Abe, Chairman, Yuba County Board of Supervisors, 915 8th Street, Suite 109, Marysville, CA 95901 | December 30, 2011 | 060427
Colorado:
Douglas (FEMA Docket No.: B-1231) | Town of Castle Rock (11-08-0329P) | September 8, 2011; September 15, 2011; The Douglas County News-Press | The Honorable Paul Donahue, Mayor, Town of Castle Rock, 100 North Wilcox Street, Castle Rock, CO 80104 | January 13, 2012 | 080050
Douglas (FEMA Docket No.: B-1231) | Unincorporated areas of Douglas County (11-08-0329P) | September 8, 2011; September 15, 2011; The Douglas County News-Press | The Honorable Jill E. Repella, Chair, Douglas County Board of Commissioners, 100 3rd Street, Castle Rock, CO 80104 | January 13, 2012 | 080049
Florida:
Broward (FEMA Docket No.: B-1235) | City of Deerfield Beach (11-04-7254P) | October 6, 2011; October 13, 2011; The Sun-Sentinel | The Honorable Peggy Noland, Mayor, City of Deerfield Beach, 150 Northeast 2nd Avenue, Deerfield Beach, FL 33441 | September 29, 2011 | 125101
Monroe (FEMA Docket No.: B-1231) | Unincorporated areas of Monroe County (11-04-5095P) | September 28, 2011; October 5, 2011; The Key West Citizen | The Honorable Heather Carruthers, Mayor, Monroe County, 530 Whitehead Street, Key West, FL 33040 | February 2, 2012 | 125129
Orange (FEMA Docket No.: B-1231) | City of Orlando (11-04-5608P) | September 29, 2011; October 6, 2011; The Orlando Weekly | The Honorable Buddy Dyer, Mayor, City of Orlando, 400 South Orange Avenue, 3rd Floor, Orlando, FL 32808 | September 20, 2011 | 120186
Pinellas (FEMA Docket No.: B-1231) | City of Gulfport (10-04-7908P) | September 15, 2011; September 22, 2011; The St. Petersburg Times | The Honorable Mike Yakes, Mayor, City of Gulfport, 2401 53rd Street, Gulfport, FL 33707 | January 20, 2012 | 125108
Pinellas (FEMA Docket No.: B-1231) | Unincorporated areas of Pinellas County (10-04-7908P) | September 15, 2011; September 22, 2011; The St. Petersburg Times | The Honorable Susan Latvala, Chair, Pinellas County Board of Supervisors, 315 Court Street, Clearwater, FL 33756 | January 20, 2012 | 125139
Georgia:
Liberty (FEMA Docket No.: B-1235) | City of Hinesville (11-04-0768P) | September 30, 2011; October 7, 2011; The Coastal Courier | The Honorable James Thomas, Jr., Mayor, City of Hinesville, 115 East Martin Luther King, Jr. Drive, Hinesville, GA 31313 | September 26, 2011 | 130125
Liberty (FEMA Docket No.: B-1235) | Unincorporated areas of Liberty County (11-04-0768P) | September 30, 2011; October 7, 2011; The Coastal Courier | The Honorable John D. McIver, Chairman, Liberty County Board of Commissioners, 112 North Main Street, Hinesville, GA 31310 | September 26, 2011 | 130123
Maryland:
Washington (FEMA Docket No.: B-1225) | Unincorporated areas of Washington County (10-03-2211P) | June 3, 2011; June 10, 2011; The Herald-Mail | The Honorable Terry L. Baker, President, Washington County Board of Commissioners, 100 West Washington Street, Room 226, Hagerstown, MD 21740 | October 10, 2011 | 240070
Nevada:
Clark (FEMA Docket No.: B-1231) | City of Las Vegas (11-09-0799P) | September 1, 2011; September 8, 2011; The Las Vegas Review-Journal | The Honorable Oscar B. Goodman, Mayor, City of Las Vegas, 400 Stewart Avenue, 10th Floor, Las Vegas, NV 89101 | January 6, 2012 | 325276
Clark (FEMA Docket No.: B-1231) | City of North Las Vegas (11-09-0799P) | September 1, 2011; September 8, 2011; The Las Vegas Review-Journal | The Honorable Shari L. Buck, Mayor, City of North Las Vegas, 2200 Civic Center Drive, North Las Vegas, NV 89030 | January 6, 2012 | 320007
New Jersey:
Bergen (FEMA Docket No.: B-1228) | Township of Mahwah (11-02-0617P) | February 7, 2011; February 14, 2011; The Record | The Honorable William C. Laforet, Mayor, Township of Mahwah, 475 Corporate Drive, Mahwah, NJ 07430 | June 14, 2011 | 340049
Bergen (FEMA Docket No.: B-1228) | Borough of Ramsey (11-02-0617P) | February 7, 2011; February 14, 2011; The Record | The Honorable Christopher C. Botta, Mayor, Borough of Ramsey, 33 North Central Avenue, Ramsey, NJ 07446 | June 14, 2011 | 340064
Middlesex (FEMA Docket No.: B-1228) | Township of Cranbury (10-02-0830P) | September 16, 2011; September 23, 2011; The Cranbury Press | The Honorable David J. Stout, Mayor, Township of Cranbury, 23-A North Main Street, Cranbury, NJ 08512 | December 8, 2010 | 340258
New York:
Dutchess (FEMA Docket No.: B-1228) | Town of East Fishkill (10-02-0092P) | February 23, 2011; March 2, 2011; The Poughkeepsie Journal | The Honorable John J. Hickman, Jr., Supervisor, Town of East Fishkill, 330 State Route 376, Hopewell Junction, NY 12533 | August 16, 2011 | 361336
Pennsylvania:
Adams (FEMA Docket No.: B-1234) | Township of Franklin (11-03-0400P) | July 19, 2011; July 26, 2011; The Gettysburg Times | The Honorable Daniel Fetter, Chairman, Township of Franklin Board of Supervisors, 55 Scott School Road, Cashtown, PA 17310 | November 23, 2011 | 421250
Delaware (FEMA Docket No.: B-1234) | Township of Haverford (11-03-1170P) | August 3, 2011; August 10, 2011; The Daily Times | The Honorable William F. Wechsler, President, Township of Haverford Board of Commissioners, 2325 Darby Road, Havertown, PA 19083 | December 8, 2011 | 420417
Lycoming (FEMA Docket No.: B-1228) | Township of Muncy (10-03-0172P) | February 23, 2011; March 2, 2011; The Williamsport Sun-Gazette | The Honorable Paul Wentzler, Chairman, Township of Muncy Board of Supervisors, 1922 Pond Road, Pennsdale, PA 17756 | June 30, 2011 | 421847
Montgomery (FEMA Docket No.: B-1234) | Township of Lower Merion (10-03-0696P) | September 15, 2011; September 22, 2011; The Main Line Times | The Honorable Elizabeth S. Rogan, President, Township of Lower Merion Board of Commissioners, 75 East Lancaster Avenue, Ardmore, PA 19003 | December 30, 2010 | 420701
Puerto Rico:
Puerto Rico (FEMA Docket No.: B-1234) | Commonwealth of Puerto Rico (10-02-1774P) | August 9, 2011; August 16, 2011; El Nuevo Dia | The Honorable Luis G. Fortuno, Governor, Commonwealth of Puerto Rico, Calle Fortaleza #63, San Juan, PR 00901 | August 2, 2011 | 720000
Texas:
Bexar (FEMA Docket No.: B-1225) | City of Selma (11-06-0764P) | August 11, 2011; August 18, 2011; The Daily Commercial Recorder | The Honorable Tom Daly, Mayor, City of Selma, 9375 Corporate Drive, Selma, TX 78154 | December 16, 2011 | 480046
Collin (FEMA Docket No.: B-1228) | City of Wylie (11-06-0830P) | August 24, 2011; August 31, 2011; The Wylie News | The Honorable Eric Hogue, Mayor, City of Wylie, 300 Country Club Road, Building 100, Wylie, TX 75098 | December 29, 2011 | 480759
Denton (FEMA Docket No.: B-1225) | City of Lewisville (11-06-3720P) | August 10, 2011; August 17, 2011; The Lewisville Leader | The Honorable Dean Ueckert, Mayor, City of Lewisville, 151 West Church Street, Lewisville, TX 75029 | December 15, 2011 | 480195
El Paso (FEMA Docket No.: B-1225) | City of El Paso (11-06-2150P) | August 11, 2011; August 18, 2011; The El Paso Times | The Honorable John F. Cook, Mayor, City of El Paso, 2 Civic Center Plaza, 10th Floor, El Paso, TX 79901 | August 4, 2011 | 480214
Kendall (FEMA Docket No.: B-1228) | City of Boerne (10-06-3371P) | August 12, 2011; August 19, 2011; The Boerne Star | The Honorable Mike Schultz, Mayor, City of Boerne, 402 East Blanco Road, Boerne, TX 78006 | December 19, 2011 | 480418
Kendall (FEMA Docket No.: B-1228) | Unincorporated areas of Kendall County (10-06-3371P) | August 12, 2011; August 19, 2011; The Boerne Star | The Honorable Gaylan Schroeder, Kendall County Judge, 201 East San Antonio Street, Suite 120, Boerne, TX 78006 | December 19, 2011 | 480417
Montgomery (FEMA Docket No.: B-1234) | City of Montgomery (10-06-1397P) | October 4, 2011; October 11, 2011; The Conroe Courier | The Honorable John Fox, Mayor, City of Montgomery, 101 Old Plantersville Road, Montgomery, TX 77356 | October 27, 2011 | 481483
Tarrant (FEMA Docket No.: B-1234) | City of Arlington (10-06-3286P) | September 15, 2011; September 22, 2011; The Fort Worth Star-Telegram | The Honorable Dr. Robert N. Cluck, Mayor, City of Arlington, 101 West Abram Street, Arlington, TX 76010 | January 20, 2012 | 485454
Travis (FEMA Docket No.: B-1225) | Unincorporated areas of Travis County (11-06-0223P) | August 11, 2011; August 18, 2011; The Austin American-Statesman | The Honorable Samuel T. Biscoe, Travis County Judge, 314 West 11th Street, Suite 520, Austin, TX 78701 | August 4, 2011 | 481026
Williamson (FEMA Docket No.: B-1225) | City of Georgetown (11-06-2998P) | August 17, 2011; August 24, 2011; The Williamson County Sun | The Honorable George Garver, Mayor, City of Georgetown, 113 East 8th Street, Georgetown, TX 78626 | December 22, 2011 | 480668
Virginia:
Loudoun (FEMA Docket No.: B-1234) | Unincorporated areas of Loudoun County (10-03-0387P) | October 27, 2010; November 3, 2010; The Loudoun Times-Mirror | The Honorable Scott K. York, Chairman at Large, Loudoun County Board of Supervisors, 1 Harrison Street Southeast, 5th Floor, Leesburg, VA 20177 | October 19, 2010 | 510090
Wyoming:
Fremont (FEMA Docket No.: B-1231) | City of Lander (11-08-0099P) | September 11, 2011; September 18, 2011; The Lander Journal | The Honorable Mick Wolfe, Mayor, City of Lander, 240 Lincoln Street, Lander, WY 82520 | January 16, 2012 | 560020

(Catalog of Federal Domestic Assistance No. 97.022, “Flood Insurance.”)

Dated: March 15, 2012.
Sandra K. Knight,
Deputy Associate Administrator for Mitigation, Department of Homeland Security, Federal Emergency Management Agency.

[FR Doc. 2012-8403 Filed 4-6-12; 8:45 am]

BILLING CODE 9110-12-P